DEPARTMENT OF ENERGY

Federal Energy Regulatory Commission

[Docket Nos. AC04-1-000, et al.]

PJM Interconnection L.L.C., et al.; Electric Rate and Corporate Filings

October 7, 2003.

The following filings have been made with the Commission. The filings are listed in ascending order within each docket classification.

1. PJM Interconnection, L.L.C.

[Docket No. AC04-1-000]

Take notice that on October 1, 2003, PJM Interconnection, L.L.C. (PJM) tendered for filing with the Federal Energy Regulatory Commission (Commission) a letter addressed to John M. Delaware, Chief Accountant of the Commission, requesting authorization to defer depreciation of certain capital costs, required to integrate additional transmission owners into its markets and systems, until January 1, 2005. PJM then proposes to amortize the deferred amounts, plus finance charges, over 36 months, beginning on January 1, 2005. Action on this accounting request will affect the determination of amounts to be billed under PJM's formula tariff.

Comment Date: October 21, 2003.

2. Georgia Natural Gas Company

[Docket No. ER03-1403-000]

Take notice that on September 30, 2003, Georgia Natural Gas Company (f/k/a Atlanta Gas Light Services, Inc.) (f/k/a The Energy Spring, Inc.) pursuant to Section 35.15 of the Commission's regulations, 18 CFR 35.15, submitted a Notice of Cancellation to terminate its Electric Rate Schedule FERC No. 1. Georgia Natural Gas Company requests an effective date of October 31, 2003.

Comment Date: October 21, 2003.

3. PPM Colorado Wind Ventures, Inc.

[Docket No. EG04-2-000]

Take notice that on October 1, 2003, PPM Colorado Wind Ventures, Inc. (PPM Colorado) tendered for filing an Application for Determination of Exempt Wholesale Generator Status (Application) pursuant to Section 32 of the Public Utility Holding Company Act of 1935.

PPM Colorado states that a copy of the Application has been sent to the Public Utilities Commission of Colorado, the California Public Utilities Commission, the Oregon Public Utility Commission, the Washington Utilities and Transportation Commission, the Utah Public Service Commission, the Idaho Public Utilities Commission, and the Wyoming Public Service Commission, as “affected state commissions” under 18 CFR 365.2(b)(3), and the Securities and Exchange Commission.

Comment Date: October 28, 2003.

4. Southeastern Power Administration

[Docket No. EF03-3011-000]

Take notice that on September 30, 2003, the Deputy Secretary of Energy confirmed and approved on an interim basis, effective on October 1, 2003, Rate Schedules SOCO-1-B, SOCO-2-B, SOCO-3-B, SOCO-4-B, ALA-1-K, MISS-1-K, Duke-1-B, Duke-2-B, Duke-3-B, Duke-4-B, Santee-1-B, Santee-2-B, Santee-3-B, Santee-4-B, SCE&G-1-B, SCE&G-2-B, SCE&G-3-B, SCE&G-4-B, Regulation-1, Replacement-1, Pump-1-A, and Pump-2 for power from Southeastern Power Administration's (Southeastern) Georgia-Alabama-South Carolina System. The rate schedules have been submitted to the Federal Energy Regulatory Commission for confirmation and approval on a final basis, effective October 1, 2003, and ending September 30, 2007.

The Deputy Secretary of Energy states that the Commission, by order issued July 15, 2003, in Docket No. EF02-3011-000, confirmed and approved Rate Schedules SOCO-1-A, SOCO-2-A, SOCO-3-A, SOCO-4-A, ALA-1-J MISS-1-J, Duke-1-A, Duke-2-A, Duke-3-A, Duke-4-A, Santee-1-A, Santee-2-A, Santee-3-A, Santee-4-A, SCE&G-1-A, SCE&G-2-A, SCE&G-3-A, SCE&G-4-A, and Pump-1-A, Pump-2, and Regulation-1 and Replacement-1. Southeastern proposes in the instant filing to replace these rate schedules.

Comment Date: October 28, 2003.

5. Southeastern Power Administration

[Docket No. EF03-3021-000]

Take notice that on September 30, 2003, the Deputy Secretary of the Department of Energy confirmed and approved on an interim basis, effective on October 1, 2003, Rate Schedules CBR-1-E, CSI-1-E, CEK-1-E, CM-1-E, CC-1-F, CK-1-E, CTV-1-E, and SJ-1-B for power from Southeastern Power Administration's (Southeastern) Cumberland System of Projects. The rate schedules have been submitted to the Federal Energy Regulatory Commission for confirmation and approval on a final basis effective October 1, 2003 and ending September 30, 2008.

The Deputy Secretary states that the Commission, by order issued March 17, 2000, in Docket No. EF99-3021-000, confirmed and approved Rate Schedules CBR-1-D, CSI-1-D, CK-1-D, CC-1-E, CM-1-D, CEK-1-D, CTV-1-D, and SJ-1-A. Southeastern proposes in the instant filing to replace these rate schedules.

Comment Date: October 28, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-26035 Filed 10-14-03; 8:45 am]

BILLING CODE 6717-01-P